DEPARTMENT OF LABOR

Employment and Training Administration

[TA-W-38,698]

Powermatic Corporation, Walter Meyer Holding, AG, McMinnville, TN; Notice of Negative Determination Regarding Application for Reconsideration

By application of May 30, 2001, the United Steelworkers of America (USWA), District 9, requested administrative reconsideration of the Department's negative determination regarding worker eligibility to apply for trade adjustment assistance, applicable to workers of the subject firm. The denial notice was signed on April 6, 2001, and was published in the Federal Register on May 2, 2001 (66 FR 22006).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition denial for the workers of Powermatic Corporation, Walter Meyer Holding, AG, McMinnville, Tennessee was denied based on the finding that criterion (2) of the group eligibility requirements of Section 222 of the Trade Act of 1974, as amended, was not met. Sales and/or production at the plant did not decline.

The request for reconsideration states that the Union and workers are of the opinion that plant sales and/or production decreased absolutely. The USWA also asserts that the products produced at the plant have been adversely affected by the use of imported components.

In response to components being imported by the company, it was determined in the original investigation that the company sourced out all components to domestic producers and then assembled industrial wood-working machinery at the plant. The components for the plants other product line (home-hobby) were always made in Taiwan and the end product assembled at the subject plant.

The USWA provided additional plant sales figures regarding the trends in sales for the time period corresponding to that of the initial investigation. The figures provided by the USWA depict increased sales similar to the period available during the original investigation.

Workers, the Union or company official may reapply for Trade Adjustment Assistance should conditions warrant.

Conclusion

After review of the application and investigative findings, I conclude that there has been no error or misinterpretation of the law or of the facts which would justify reconsideration of the Department of Labor's prior decision. Accordingly, the application is denied.

Signed at Washington, DC this 28th day of September 2001.
Edward A. Tomchick,
Director, Division of Trade Adjustment Assistance.

[FR Doc. 01-26361 Filed 10-18-01; 8:45 am]

BILLING CODE 4510-30-M